DEPARTMENT OF COMMERCE

National Oceanic and Atmospheric Administration

RIN 0648-XH072

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold a webinar-based meeting with its Advisory Panel members and the public to provide information and gather input regarding an upcoming Council Omnibus Framework action that could require electronic reporting of Vessel Trip Reports (VTRs) for all Council-managed commercial fisheries.

DATES: The meeting will be held Tuesday, July 23, 2019, from 8:30 a.m. to 10:30 a.m. EDT.

ADDRESSES: The meeting will be held via webinar (http://mafmc.adobeconnect.com/evtr_app_overview/) with a telephone audio connection (provided when connecting). Audio only access via conference phone number: 1-800-832-0736, Room Number: 5765379.

Council address: Mid-Atlantic Fishery Management Council, 800 N State St., Suite 201, Dover, DE 19901; telephone: (302) 674-2331.

FOR FURTHER INFORMATION CONTACT: Christopher M. Moore, Ph.D., Executive Director, Mid-Atlantic Fishery Management Council; telephone: (302) 526-5255. The Council's website, www.mafmc.org also has details on the proposed agenda, webinar access, and briefing materials.

SUPPLEMENTARY INFORMATION: The Council is considering requiring electronic reporting of commercial fishery Vessel Trip Reports (VTRs). This action would change the method of transmitting VTRs—the required data elements would not change. Existing regulations requiring that VTRs be completed before arriving at the dock would not change, but the timeline for submitting electronic reports may change. This meeting will provide a review of eVTR applications and gather input from the Council's commercial fishery advisory panel members and the public in preparation for Council action.

Special Accommodations

The meeting is physically accessible to people with disabilities. Requests for sign language interpretation or other auxiliary aid should be directed to M. Jan Saunders, (302) 526-5251, at least 5 days prior to the meeting date.

Authority: 16 U.S.C. 1801 et seq.

Dated: June 25, 2019.
Tracey L. Thompson,
Acting Deputy Director, Office of Sustainable Fisheries, National Marine Fisheries Service.

[FR Doc. 2019-13894 Filed 6-27-19; 8:45 am]

BILLING CODE 3510-22-P